DEPARTMENT OF ENERGY

Federal Energy Regulatory Commission

Combined Notice of Filings #2

Take notice that the Commission received the following electric corporate filings:

Docket Numbers: EC19-88-000.

Applicants: Cinergy Corp., Duke Energy Renewables, Inc., Caprock Solar 1 LLC, Cimarron Windpower II, LLC, Frontier Windpower, LLC, Happy Jack Windpower, LLC, Ironwood Windpower, LLC, Kit Carson Windpower, LLC, Laurel Hill Wind Energy, LLC, North Allegheny Wind, LLC, Pumpjack Solar I, LLC, Rio Bravo Solar I, LLC, Rio Bravo Solar II, LLC, Shoreham Solar Commons LLC, Seville Solar One LLC, Seville Solar Two LLC, Silver Sage Windpower, LLC, Three Buttes Windpower, LLC, Top of the World Wind Energy LLC, Tallbear Seville LLC, Wildwood Solar I, LLC, Wildwood Solar II, LLC, John Hancock Life Insurance Company (U.S.A.), JH Symphony Renewables, LLC.

Description: Supplement to May 8, 2019 Joint Application for Authorization Under Section 203 of the Federal Power Act of Cinergy Corp., et al.

Filed Date: 6/7/19.

Accession Number: 20190607-5039.

Comments Due: 5 p.m. ET 7/22/19.

Take notice that the Commission received the following electric rate filings:

Docket Numbers: ER19-1934-002.

Applicants: Tucson Electric Power Company.

Description: Compliance filing: Order No. 845 Deficiency Letter Response to be effective 5/22/2019.

Filed Date: 7/12/19.

Accession Number: 20190712-5085.

Comments Due: 5 p.m. ET 8/2/19.

Docket Numbers: ER19-1935-001.

Applicants: UNS Electric, Inc.

Description: Compliance filing: Order No. 845 Deficiency Letter Response to be effective 5/22/2019.

Filed Date: 7/12/19.

Accession Number: 20190712-5086.

Comments Due: 5 p.m. ET 8/2/19.

Docket Numbers: ER19-2233-001.

Applicants: Smoky Mountain Transmission LLC.

Description: Compliance filing: Amendment to Compliance Filing to be effective 5/22/2019.

Filed Date: 7/12/19.

Accession Number: 20190712-5095.

Comments Due: 5 p.m. ET 8/2/19.

Docket Numbers: ER19-2389-000.

Applicants: Grazing Yak Solar, LLC.

Description: Baseline eTariff Filing: Grazing Yak Solar, LLC Application for Market-Based Rates to be effective 9/11/2019.

Filed Date: 7/12/19.

Accession Number: 20190712-5080.

Comments Due: 5 p.m. ET 8/2/19.

Docket Numbers: ER19-2390-000.

Applicants: PJM Interconnection, L.L.C.

Description: § 205(d) Rate Filing: Amendment to ISA, SA No. 4872; Queue No. AA2-132 (amend) to be effective 11/21/2017.

Filed Date: 7/12/19.

Accession Number: 20190712-5096.

Comments Due: 5 p.m. ET 8/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2019.
Nathaniel J. Davis, Sr.,
Deputy Secretary.

[FR Doc. 2019-15374 Filed 7-18-19; 8:45 am]

BILLING CODE 6717-01-P